DEPARTMENT OF COMMERCE

International Trade Administration

[C-570-059, C-533-874]

Certain Cold-Drawn Mechanical Tubing of Carbon and Alloy Steel From the People's Republic of China and India: Countervailing Duty Orders; Correction

AGENCY: Enforcement and Compliance, International Trade Administration, Department of Commerce.

ACTION: Notice; correction.

SUMMARY: The Department of Commerce (Commerce) published in the Federal Register on February 1, 2018, the countervailing duty orders on certain cold-drawn mechanical tubing of carbon and alloy steel (cold-drawn mechanical tubing) from the People's Republic of China (China) and India. This notice corrects the subsidy rate calculated for all other exporters/producers from India.

FOR FURTHER INFORMATION CONTACT: Eliza Siordia, AD/CVD Operations, Office V, Enforcement and Compliance, International Trade Administration, U.S. Department of Commerce, 1401 Constitution Avenue NW, Washington, DC 20230; telephone: (202) 482-3878.

SUPPLEMENTARY INFORMATION:

Correction

In the Federal Register of February 1, 2018, in FR Doc 2018-02045, on page 4638, in the table under the subheading “Exporter/Producer from India,” correct the subsidy rate (percent) for “All-Others” to 22.41 percent.

Background

On February 1, 2018, Commerce published in the Federal Register the countervailing duty orders on cold-drawn mechanical tubing from China and India.¹ We incorrectly stated the subsidy rate for all-other exporters/producers from India as 22.40 percent due to a typographical error.² The corrected subsidy rate is as follows:

¹ See Certain Cold-Drawn Mechanical Tubing of Carbon and Alloy Steel from the People's Republic of China and India: Countervailing Duty Orders, 83 FR 4637 (February 1, 2018).

² See Certain Cold-Drawn Mechanical Tubing of Carbon and Alloy Steel from India: Final Affirmative Countervailing Duty Determination, 82 FR 58172 (December 11, 2017). Commerce calculated a final all-others subsidy rate of 22.41 percent. We did not issue an amended final determination.

Exporter/producer from India | Subsidy rate (percent ad valorem)
All Others | 22.41

We hereby notify the public in this notice we should have identified the all-others subsidy rate as 22.41 percent. We intend to notify U.S. Customs and Border Protection of this correction.

Notification to Interested Parties

This notice is issued and published in accordance with section 706(a) of the Tariff Act of 1930, as amended, and 19 CFR 351.211(b).

Dated: June 3, 2021.
Christian Marsh,
Acting Assistant Secretary for Enforcement and Compliance.

[FR Doc. 2021-12076 Filed 6-8-21; 8:45 am]

BILLING CODE 3510-DS-P